DEPARTMENT OF ENERGY

Notice of Request for Information (RFI) on National Offshore Wind Energy R&D Test Facilities

AGENCY: Wind Energy Technologies Office, Office of Energy Efficiency and Renewable Energy, Department of Energy.

ACTION: Request for information (RFI).

SUMMARY: The U.S. Department of Energy (DOE) invites public comment on its Request for Information (RFI) regarding national-level test facilities for offshore wind-specific research and development. The Wind Energy Technologies Office (WETO) is seeking information on facilities that can conduct unique offshore wind research and development (R&D) in the U.S., what upgrades to existing facilities or new facilities are needed for the U.S. to be at the cutting edge of offshore wind R&D, and what specific tests and analyses could be carried out at existing, upgraded, or new facilities in order to advance the U.S. offshore wind industry.

DATES: Responses to the RFI must be received by September 14, 2018.

ADDRESSES: Interested parties are to submit comments electronically to osw.rfi@ee.doe.gov. Include “National Offshore Wind Energy R&D Test Facilities” in the subject of the title. Responses must be provided as attachments to an email. It is recommended that attachments with file sizes exceeding 25MB be compressed (i.e., zipped) to ensure message delivery. Responses must be provided as a Microsoft Word (.docx) attachment to the email, and no more than 10 pages in length, 12 point font, 1 inch margins. Only electronic responses will be accepted. The complete RFI document is located at https://eere-exchange.energy.gov/.

FOR FURTHER INFORMATION CONTACT: Questions may be addressed to Alana Duerr, U.S. Department of Energy, 1000 Independence Avenue SW, Washington, DC 20585, (202) 287-6953, or osw.rfi@ee.doe.gov. Further instruction can be found in the RFI document number DE-FOA-0001963 posted on EERE Exchange (https://eere-exchange.energy.gov/).

SUPPLEMENTARY INFORMATION: The purpose of this RFI is to solicit feedback from industry, academia, research laboratories, government agencies, and other stakeholders on issues related to national offshore wind test facilities. WETO is specifically interested in information on: The facilities in the U.S. that are available for offshore wind-specific experimentation and testing; facilities upgrades or new facilities that are required in the U.S. for offshore wind testing in order to perform cutting edge R&D; and, the most pressing R&D needs that would utilize existing, upgraded, or new U.S. offshore wind specific facilities. The RFI is available at: https://eere-exchange.energy.gov/

Confidential Business Information

Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI [DE-FOA-0001963] at: https://eere-exchange.energy.gov/.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on July 27, 2018.
Valerie Reed,
Acting Director, Wind Energy Technologies Office.

[FR Doc. 2018-16453 Filed 7-31-18; 8:45 am]

BILLING CODE 6450-01-P